DEPARTMENT OF HEALTH AND HUMAN SERVICES

National Institutes of Health

Center for Scientific Review; Amended Notice of Meeting

Notice is hereby given of a change in the meeting of the Center for Scientific Review Special Emphasis Panel, July 13, 2010, 8 a.m. to July 14, 2010, 5 p.m., National Institutes of Health, 6701 Rockledge Drive, Bethesda, MD, 20892 which was published in the Federal Register on June 14, 2010, 75 FR 33626-33627.

The meeting will be held July 14, 2010, 10 a.m. to July 15, 2010, 5 p.m. The meeting location remains the same. The meeting is closed to the public.

Dated: June 29, 2010.
Jennifer Spaeth,
Director, Office of Federal Advisory Committee Policy.

[FR Doc. 2010-16336 Filed 7-2-10; 8:45 am]

BILLING CODE 4140-01-P